FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940.

Interested parties may submit comments on an agreement to the Secretary, Federal Maritime Commission, Washington, DC 20573, within 10 days of the date this notice appears in the Federal Register.

Agreement No.: 011733-009.

Title: Common Ocean Carrier Platform Agreement.

Parties:

A.P. Moller Maersk Sealand,

P&O Nedlloyd Limited

Hamburg-Sud

Mediterranean Shipping Company S.A.

CMA CGM S.A.

Hapag Lloyd Container Linie GmbH

United Arab Shipping Company (SAG), as shareholder parties

Alianca Navegacao e Logistica Ltda.

Safmarine Container Lines N.V.

Nippon Yusen Kaisha

CP Ship Limited

Tasman Orient Line C.V.

Mitsui O.S.K. lines, Ltd., as non-shareholder parties.

Synopsis: The amendment adds Mitsui O.S.K. Lines, Ltd. as a non-shareholder party to the agreement.

Agreement No.: 011742-002.

Title: P&O Nedlloyd-Farrell/Hapag Lloyd/Zim Mediterranean Space Charter Agreement.

Parties:

P&O Nedlloyd Limited

P&O Nedlloyd B.V.

Hapag Lloyd Container Linie GmbH,

Zim Israel Navigation Co., Ltd.

Synopsis: The proposed amendment reflects changes in the structure of the service operated under the agreement and the allocation of slots on that service.

Agreement No.: 011852-001.

Title: Maritime Security Discussion Agreement.

Parties:

American President Lines, Ltd.

APL Co. PTE Ltd.

COSCO Container Lines Company, Ltd.

Evergreen Marine Corporation

Hanjin Shipping Company, Ltd.

Hapag Lloyd Container Linie GmbH

Kawasaki Kisen Kaisha Ltd.

A.P. Moller Maersk Sealand

Mitsui O.S.K. Lines, Ltd.

Nippon Yusen Kaisha

Yang Ming Transport Corp.

Zim Israel Navigation Co., Ltd.

Ceres Terminals, Inc.

Cooper/T. Smith Stevedoring Co., Inc.

Eagle Marine Services Ltd.

Global Terminal & Container Services, Inc.

Howland Hook Container Terminal, Inc.

Husky Terminal & Stevedoring, Inc.

International Shipping Agency

International Transportation Service, Inc.

Long Beach Container Terminal, Inc.

Maersk Pacific Ltd.

Maher Terminals, Inc.

Marine Terminals Corp.

Maryland Port Administration

Metropolitan Stevedore Co.

P&O Ports North American, Inc.

Port of Tacoma

South Carolina State Ports Authority

Stevedoring Services of America, Inc.

Trans Bay Container Terminal, Inc. TraPac Terminals

Universal Maritime Service Corp.;

Virginia International Terminals.

Synopsis: The amendment makes technical changes relating to meetings under the agreement and adds Howland Hook Container Terminals, International Shipping Agency, and the Port of Tacoma as parties to the agreement.

Agreement No.: 011861.

Title: CMA CGM/CSCL Cross Space Charter, Sailing and Cooperative Working Agreement.

Parties:

CMA CGM S.A.

China Shipping Container Lines Co., Ltd.

Synopsis: The proposed agreement is a reciprocal vessel-sharing arrangement in the trade between U.S. East Coast ports and ports on the Mediterranean Sea and the Atlantic Coast of the Iberian Peninsula (Lisbon).

Agreement No.: 011862.

Title: CCNI/Frontier Space Charter and Sailing Agreement.

Parties:

Compania Chilena de Navegacion Interoceanica S.A.

Frontier Liner Services, Inc.

Synopsis: The proposed agreement is a reciprocal vessel-sharing arrangement in the trade between U.S. East and Gulf ports and ports in Central America, the Caribbean, and the North Coast of Colombia. The parties request expedited review.

Agreement No.: 011863.

Title: CMA CGM/P&O Nedlloyd-Hapag Lloyd Space Charter Agreement.

Parties:

CMA CGM S.A., P&O Nedlloyd Limited

P&O Nedlloyd B.V.

Hapag Lloyd Container Linie GmbH

Synopsis: The proposed agreement is a reciprocal vessel-sharing arrangement in the trade between U.S. Atlantic and Gulf ports and ports on the Mediterranean Sea.

By Order of the Federal Maritime Commission.
Dated: August 29, 2003.
Bryant L. VanBrakle,
Secretary.

[FR Doc. 03-22556 Filed 9-3-03; 8:45 am]

BILLING CODE 6730-01-P